LEGAL SERVICES CORPORATION

Sunshine Act Meetings of the Board of Directors and the Board's Six Committees; Correction

Corrected Notice; Include the Legal Citations for Closure of Part of the October 31, 2009 Finance Committee Meeting

Notice: The Legal Services Corporation (“LSC”) is announcing a correction to the notice of the October 30-31, 2009 meetings of the Board of Directors and the Board's Six Committees. The correction is for the Finance Committee meeting only scheduled for Saturday, October 31, 2009. The Committee meeting was announced in the Federal Register on Friday, October 23, 2009. The sole correction to the notice is to add the legal citations for closure of part of the Saturday, October 31, 2009 Finance Committee meeting as follows.

Finance Committee: Open, except that a portion of the meeting will be closed to the public pursuant to a vote of the Board of Directors to consider and perhaps act on a staff report on the classification of LSC consultants.

A verbatim written transcript will be made of the closed session of the Committee meetings. However, the transcript of any portions of the closed session falling within the relevant provisions of the Government in the Sunshine Act, 5 U.S.C. 552b(c)(9)(B), and the corresponding provisions of the Legal Services Corporation's implementing regulation, 45 CFR 1622.5(g), and will not be available for public inspection. A copy of the General Counsel's Certification that in his opinion the closing is authorized by law will be available upon request.

Contact Person for Information: Katherine Ward, Executive Assistant to the Vice President & General Counsel, at (202) 295-1500.

Special Needs: Upon request, meeting notices will be made available in alternate formats to accommodate vis ual and hearing impairments. Individuals who have a disability and need an accommodation to listen to the meeting may notify Katherine Ward at (202) 295-1500 or kward@lsc.gov.

Dated: October 26, 2009.
Victor M. Fortuno,
Vice President & General Counsel.

[FR Doc. E9-26138 Filed 10-27-09; 11:15 am]

BILLING CODE 7050-01-P